INTERNATIONAL TRADE COMMISSION

[Investigation Nos. 701-TA-746 and 731-TA-1724 (Final)]

Overhead Door Counterbalance Torsion Springs From China; Determinations

On the basis of the record ¹ developed in the subject investigations, the United States International Trade Commission (“Commission”) determines, pursuant to the Tariff Act of 1930 (“the Act”), that an industry in the United States is materially injured by reason of imports of overhead door counterbalance torsion springs from China, provided for in subheading 7320.20.50 of the Harmonized Tariff Schedule of the United States, that have been found by the U.S. Department of Commerce (“Commerce”) to be sold in the United States at less than fair value (“LTFV”), and imports of the subject merchandise from China that have been found to be subsidized by the government of China.2 3

¹ The record is defined in § 207.2(f) of the Commission's Rules of Practice and Procedure (19 CFR 207.2(f)).

² 90 FR 39369 (Aug. 15, 2025); 90 FR 39374 (Aug. 15, 2025).

³ The Commission also finds that imports subject to Commerce's affirmative critical circumstances determinations are not likely to undermine seriously the remedial effect of the countervailing and antidumping duty orders on overhead door counterbalance torsion springs from China.

Background

The Commission instituted these investigations effective October 29, 2024, following receipt of petitions filed with the Commission and Commerce by IDC Group, Inc., Minneapolis, Minnesota, Iowa Spring Manufacturing, Inc., Adel, Iowa, and Service Spring Corp., Maumee, Ohio.⁴ The final phase of the investigations was scheduled by the Commission following notification of preliminary determinations by Commerce that imports of overhead door counterbalance torsion springs from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing notices in the Federal Register on June 11, 2025 (90 FR 24665) and June 23 (90 FR 26608). The public hearing in connection with the investigations was cancelled.⁵

⁴ The petitions alleged that an industry in the United States is materially injured and threatened with material injury by reason of subsidized and LTFV imports of overhead door counterbalance torsion springs from China and India. The investigations regarding overhead door counterbalance torsion springs from India are ongoing.

⁵ 90 FR 39420 (Aug. 15, 2025).

The Commission made these determinations pursuant to §§ 705(b) and 735(b) of the Act (19 U.S.C. 1671d(b) and 19 U.S.C. 1673d(b)). It completed and filed its determinations in these investigations on September 30, 2025. The views of the Commission are contained in USITC Publication 5675 (Sept. 2025), entitled Overhead Door Counterbalance Torsion Springs from China: Investigation Nos. 701-TA-746 and 731-TA-1724 (Final).

By order of the Commission.
Issued: September 30, 2025.
Lisa Barton,
Secretary to the Commission.

[FR Doc. 2025-19320 Filed 10-1-25; 8:45 am]

BILLING CODE 7020-02-P